DEPARTMENT OF ENERGY

Federal Energy Regulatory Commission

[Docket No. RP99-220-015]

Great Lakes Gas Transmission Limited Partnership; Notice of Negotiated Rates

May 6, 2004.

Docket No. | Date filed | Presenter or requester
1. CP04-36-000 CP04-41-000 | 4-26-04 | Brian Pearson.
2. CP04-36-000 CP04-41-000 | 4-26-04 | Lisa Doremus
3. CP04-58-000 | 5-03-04 | Susan Schaffel, et al. ¹
¹ This communication is one among numerous form letters sent to the Commission by the Greenpeace, USA organization. Only representative samples of these prohibited non-decisional documents are posted in this docket on the Commission's eLibrary system (http://www.ferc.gov).

Take notice that on April 20, 2004, Great Lakes Gas Transmission Limited Partnership (Great Lakes) filed for disclosure, a transportation service agreement pursuant to Great Lakes' Rate Schedule FT entered into by Great Lakes and Tenaska Marketing Ventures (Tenaska) (FT Service Agreement). The FT Service Agreement reflects a negotiated rate arrangement between Great Lakes and Tenaska commencing November 1, 2004.

Great Lakes states that the FT Service Agreement is filed to implement a negotiated rate contract, as required by both Great Lakes' negotiated rate tariff provisions and the Commission's Statement of Policy on Alternatives to Traditional Cost-of-Service Ratemaking for Natural Gas Pipelines and Regulations of Negotiated Transportation Services of Natural Gas Pipelines, issued January 31, 1996, in Docket Nos. RM95-6-000 and RM96-7-000.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Magalie R. Salas,
Secretary.

[FR Doc. E4-1097 Filed 5-12-04; 8:45 am]

BILLING CODE 6717-01-P